DEPARTMENT OF COMMERCE

International Trade Administration

[C-475-821]

Stainless Steel Wire Rod From Italy; Preliminary and Final Results of Full Sunset Review of Countervailing Duty Order

AGENCY: Import Administration, International Trade Administration, Department of Commerce.

ACTION: Notice of extension of time limit for preliminary and final results of full sunset review: Stainless Steel Wire Rod from Italy.

SUMMARY: The Department of Commerce (“the Department”) is extending the time limit for its preliminary and final results in the full sunset review of the countervailing duty order on stainless steel wire rod (“SSWR”) from Italy.¹ The Department intends to issue preliminary results of this sunset review on or before February 27, 2004. In addition, the Department intends to issue its final results of this review on or before June 28, 2004 (120 days after the date of publication in the Federal Register of the preliminary results).

¹ The Department normally will issue its preliminary results in a full sunset review not later than 110 days after the date of publication in the Federal Register of the notice of initiation. However, if the Secretary determines that a full sunset review is extraordinarily complicated under section 751(c)(5)(C) of the Act, the Secretary may extend the period for issuing final results by not more than 90 days. See section 751(c)(5)(B) of the Act.

EFFECTIVE DATE: February 25, 2004.

FOR FURTHER INFORMATION CONTACT: Hilary E. Sadler or Martha V. Douthit, Import Administration, International Trade Administration, U.S. Department of Commerce, 14th Street & Constitution Avenue, NW., Washington, DC 20230; telephone: (202) 482-4340 or (202) 482-5050.

Extension of Preliminary and Final Determinations

On August 1, 2003, the Department initiated a sunset review of the countervailing duty order on SSWR from Italy. See Initiation of Five-Year (Sunset) Reviews, 68 FR 45219 (August 1, 2003). The Department, in this proceeding, determined that it would conduct a full (240 day) sunset review of this order based on responses from the domestic and respondent interested parties to the notice of initiation. The Department's preliminary results of this review were scheduled for November 19, 2003. However, several issues have arisen regarding the recent revocation of the order with respect to Cogne Acciai Speciali S.r.l. (“CAS”) and its effect on this sunset review. See Notice of Implementation Under Section 129 of the Uruguay Round Agreements Act: Countervailing Measures Concerning Certain Steel Products From the European Communities, 68 FR 64858 (November 17, 2003).

Because of the numerous, complex issues in this proceeding, the Department will extend the deadlines. Thus, the Department intends to issue the preliminary results not later than February 27, 2004, and the final results not later than June 28, 2004, in accordance with section 751(c)(5)(B).

Dated: February 19, 2004.
James J. Jochum,
Assistant Secretary for Import Administration.

[FR Doc. 04-4140 Filed 2-24-04; 8:45 am]

BILLING CODE 3510-DS-P